COMMISSION ON CIVIL RIGHTS

Agenda and Notice of Public Meeting of the Colorado Advisory Committee

AGENCY: Commission on Civil Rights.

ACTION: Announcement of meetings.

SUMMARY: Notice is hereby given, pursuant to the provisions of the rules and regulations of the U.S. Commission on Civil Rights (Commission), and the Federal Advisory Committee Act (FACA), that a planning meeting of the Colorado Advisory Committee to the Commission will by teleconference at 5:00 p.m. (MDT) on Friday, April 13, 2018. The purpose of the meeting is to review, discuss and vote on a draft of the No Aid Report after allowing for a 30-day public comment period.

DATES: Friday, April 13 2018, at 5:00 p.m. MDT.

ADDRESSES: Public call-in information: Conference call-in number: 1-800-310-7032 and conference call 2278223.

FOR FURTHER INFORMATION CONTACT: Evelyn Bohor, at ebohor@usccr.gov or by phone at 303-866-1040.

SUPPLEMENTARY INFORMATION: Interested members of the public may listen to the discussion by calling the following toll-free conference call-in number: 1-800-310-7032 and conference call 2278223. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Persons with hearing impairments may also follow the discussion by first calling the Federal Relay Service at 1-800-877-8339 and providing the operator with the toll-free conference call-in number: 1-800-310-7032 and conference call 2278223.

Members of the public are invited to make statements during the open comment period of the meeting or submit written comments. The comments must be received in the regional office approximately 30 days after each scheduled meeting. Written comments may be mailed to the Rocky Mountain Regional Office, U.S. Commission on Civil Rights, 1961 Stout Street, Suite 13-201, Denver, CO 80294, faxed to (303) 866-1040, or emailed to Evelyn Bohor at ebohor@usccr.gov. Persons who desire additional information may contact the Rocky Mountain Regional Office at (303) 866-1040.

Records and documents discussed during the meeting will be available for public viewing as they become available at https://www.facadatabase.gov/committee/meetings.aspx?cid=238; click the “Meeting Details” and “Documents” links. Records generated from this meeting may also be inspected and reproduced at the Rocky Mountain Regional Office, as they become available, both before and after the meeting. Persons interested in the work of this advisory committee are advised to go to the Commission's website, www.usccr.gov, or to contact the Rocky Mountain Regional Office at the above phone numbers, email or street address.

Agenda: Friday, April 13, 2018, 5:00 (MDT)

• Rollcall and Welcome

• Review, Discuss and Vote on No Aid Report after End of 30-day Public Comment Period

• Open Comment

• Adjourn

Dated: March 16, 2018.
David Mussatt,
Supervisory Chief, Regional Programs Unit.

[FR Doc. 2018-05732 Filed 3-20-18; 8:45 am]

BILLING CODE P